DEPARTMENT OF THE INTERIOR

National Park Service

[NPS-WASO-NAGPRA-NPS0034365; PPWOCRADN0-PCU00RP14.R50000]

Notice of Inventory Completion: University at Albany, State University of New York, Albany, NY

AGENCY: National Park Service, Interior.

ACTION: Notice.

SUMMARY: The University at Albany, State University of New York (SUNY Albany) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to SUNY Albany. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to SUNY Albany at the address in this notice by September 19, 2022.

FOR FURTHER INFORMATION CONTACT: Christopher B. Wolff, Department of Anthropology, University at Albany, 1400 Washington Avenue, AS105, Albany, NY 12222, telephone (518) 442-3982, email cwolff@albany.edu.

SUPPLEMENTARY INFORMATION: Notice is here given in accordance with the Native American Graves Protection and Repatriation Act (NAGPRA), 25 U.S.C. 3003, of the completion of an inventory of human remains and associated funerary objects under the control of the University at Albany, State University of New York, Albany, NY. The human remains and associated funerary objects were removed from Duchess County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by SUNY Albany professional staff in consultation with representatives of the Delaware Nation, Oklahoma; Delaware Tribe of Indians; and the Stockbridge Munsee Community, Wisconsin (hereafter referred to as “The Tribes”).

History and Description of the Remains

On an unknown date, human remains representing, at minimum, two individuals were removed from Duchess County, NY. Exact provenience is unknown, but the various elements have “Duchess County” written on them in black ink. No known individuals were identified. No associated funerary objects are present.

On an unknown date, human remains representing, at minimum, 28 individuals were removed from unknown locations, most likely from New York. No known individuals were identified. The two associated funerary objects are one chert flake and one amorphous clay fragment.

Determinations Made by the University at Albany, State University of New York

Officials of the University at Albany, State University of New York have determined that:

• Pursuant to 25 U.S.C. 3001(9), the human remains described in this notice represent the physical remains of 30 individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Christopher B. Wolff, Department of Anthropology, University at Albany, 1400 Washington Avenue, AS105, Albany, NY 12222, telephone (518) 442-3982, email cwolff@albany.edu, by September 19, 2022. After that date, if no additional requestors have come forward, transfer of control of the human remains and associated funerary objects to The Tribes may proceed.

The University at Albany, State University of New York is responsible for notifying The Tribes that this notice has been published.

Dated: August 10, 2022.
Melanie O'Brien,
Manager, National NAGPRA Program.

[FR Doc. 2022-17762 Filed 8-17-22; 8:45 am]

BILLING CODE 4312-52-P